U.S. INTERNATIONAL DEVELOPMENT FINANCE CORPORATION

Sunshine Act Meeting Notice

TIME AND DATE: Wednesday, March 11, 2020 2:00 p.m. (OPEN Portion) 2:15 p.m. (CLOSED Portion)

PLACE: Offices of the Corporation, Twelfth Floor Board Room, 1100 New York Avenue NW, Washington, DC.

STATUS: Meeting OPEN to the Public.

MATTERS TO BE CONSIDERED:

1. Approval—Audit Committee Nominations

2. Approval—Risk Committee Nominations

3. Minutes of the Open Session of the December 11, 2019, Board of Directors Meeting

FURTHER MATTERS TO BE CONSIDERED (Closed to the Public 2:15 p.m.)

1. Reports

2. Finance Project—Cambodia, Ecuador, Guatemala, India, Indonesia, Kenya, Mexico, Nigeria, Peru, Uganda

3. Insurance Project—Kenya

4. Insurance Project—St. Lucia

5. Finance Project—Mexico

6. Finance Project—Singapore

7. Minutes of the Closed Session of the December 11, 2019, Board of Directors Meeting

8. Pending Projects

ATTENDANCE AT THE OPEN PORTION OF THE MEETING: Members of the public planning to attend the the open portion of the Board meeting are asked to register no later than Monday, March 9, 2020. To register, attendees must email Catherine.Andrade@dfc.gov with the attendee's full name as it appears on their official, government-issued identification. Access will not be granted to the open portion of the Board meeting without official, government-issued identification.

CONTACT PERSON FOR MORE INFORMATION: Agenda subject to change. Information on the meeting may be obtained from Catherine F.I. Andrade at (202) 336-8768, or via email at Catherine.Andrade@dfc.gov.

Dated: March 2, 2020.
Catherine Andrade,
Corporate Secretary, U.S. International Development Finance Corporation.

[FR Doc. 2020-04523 Filed 3-2-20; 4:15 pm]

BILLING CODE 3210-01-P